DEPARTMENT OF THE INTERIOR

National Park Service

[NPS-WASO-NAGPRA-NPS0025560; PPWOCRADN0-PCU00RP14.R50000]

Notice of Inventory Completion: Riverside Metropolitan Museum, Riverside, CA

AGENCY: National Park Service, Interior.

ACTION: Notice.

SUMMARY: The Riverside Metropolitan Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Riverside Metropolitan Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Riverside Metropolitan Museum at the address in this notice by July 18, 2018.

ADDRESSES: Robyn G. Peterson, Ph.D., Museum Director, Riverside Metropolitan Museum, 3580 Mission Inn Avenue, Riverside, CA 92501, telephone (951) 826-5792, email rpeterson@riversideca.gov.

SUPPLEMENTARY INFORMATION: Notice is here given in accordance with the Native American Graves Protection and Repatriation Act (NAGPRA), 25 U.S.C. 3003, of the completion of an inventory of human remains under the control of the Riverside Metropolitan Museum, Riverside, CA. The human remains were removed from near Coalinga, Fresno County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Riverside Metropolitan Museum professional staff in consultation with representatives of the Santa Rosa Indian Community of the Santa Rosa Rancheria, California.

History and Description of the Remains

Before 1950, human remains representing, at minimum, one individual were removed from near Coalinga in Fresno County, CA. The human remains were donated to the Riverside Municipal Museum in 1968. No known individuals were identified. No associated funerary objects are present.

The human remains were determined to be Native American based on osteological and archeological evidence (Moser, 1998, transfer from Riverside Metropolitan Museum's Natural History Collection to Anthropology Collection, record update). Information provided during consultations shows that Coalinga, Fresno County, CA is within the traditional aboriginal territory of the Southern Yokut. Historical and anthropological sources state that Coalinga, Fresno County, CA, was inhabited by the Southern Yokut (Kroeber, 1976).

Determinations Made by the Riverside Metropolitan Museum

Officials of the Riverside Metropolitan Museum have determined that:

• Pursuant to 25 U.S.C. 3001(9), the human remains described in this notice represent the physical remains of one individual of Native American ancestry.

• Pursuant to 25 U.S.C. 3001(2), there is a relationship of shared group identity that can be reasonably traced between the Native American human remains and the Santa Rosa Indian Community of the Santa Rosa Rancheria, California.

Additional Requestors and Disposition

Lineal descendants or representatives of any Indian Tribe or Native Hawaiian organization not identified in this notice that wish to request transfer of control of these human remain should submit a written request with information in support of the request to Robyn G. Peterson, Ph.D., Museum Director, Riverside Metropolitan Museum, 3580 Mission Inn Avenue, Riverside, CA 92501, telephone (951) 826-5792, email rpeterson@riversideca.gov, by July 18, 2018. After that date, if no additional requestors have come forward, transfer of control of the human remains to the Santa Rosa Indian Community of the Santa Rosa Rancheria, California, may proceed.

The Riverside Metropolitan Museum is responsible for notifying the Santa Rosa Indian Community of the Santa Rosa Rancheria, California, that this notice has been published.

Dated: May 9, 2018.
Melanie O'Brien,
Manager, National NAGPRA Program.

[FR Doc. 2018-13037 Filed 6-15-18; 8:45 am]

BILLING CODE 4312-52-P